DEPARTMENT OF HEALTH AND HUMAN SERVICES

Health Resources and Services Administration

Agency Information Collection Activities: Proposed Collection; Comment Request

In compliance with the requirement for the opportunity for public comment on proposed data collection projects (section 3506 (c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Ryan White CARE Act: Cross-Title Data Report Form (CTDR)—New

The Cross Title Data Report (CTDR) form, created in 1999 by the HIV/AIDS Bureau of the Health Resources Services Administration (HRSA), is designed to collect information from grantees, as well as their subcontracted service providers, funded under Titles I, II, III and IV of the Ryan White Comprehensive AIDS Emergency (CARE) Act of 1990, as amended by the Ryan White CARE Act Amendments of 1996 and 2000 (codified under Title XXVII of the Public Health Services Act). The purpose of the Ryan White CARE Act is to provide emergency assistance to localities that are disproportionately affected by the human immunodeficiency virus (HIV) epidemic and to make financial assistance available for the development, organization, coordination, and operation of more effective and cost-efficient systems for the delivery of essential services to persons with HIV disease. The CARE Act also provides grants to states, eligible metropolitan areas, community-based programs, and early intervention programs for the delivery of services to individuals and families with HIV infection. All Titles of the CARE Act specify HRSA's responsibilities in the administration of grant funds, the allocation of funds, the evaluation of programs for the population served, and the improvement of the quantity and quality of care. Accurate records of the providers receiving CARE Act funding, the services provided, and the clients served continue to be critical to the implementation of the legislation and thus are necessary for HRSA to fulfill its responsibilities.

Previously, grantees under each Ryan White CARE Act Title reported aggregate data on distinct Title-specific forms. The CTDR, an aggregate of these data collection forms, is designed to reduce the reporting burden for grantees with concurrent reporting responsibilities, and to eliminate title-specific reporting in order to reduce duplication among grantees and providers funded through multiple CARE Act Titles. The CTDR form collects data from grantees and their subcontracted service providers on six different areas: service provider information, client information, services provided/clients served, demographic information, AIDS Pharmaceutical Assistance and AIDS Drug Assistance Program, and the Health Insurance Program. Collected on an annual basis, the primary purposes of the CTDR are to: (1) Characterize the organizations from which clients receive services; (2) provide information on the number and characteristics of clients who receive CARE Act services; and (3) enable HAB to describe the type and amount of services a client receives. In addition to meeting the goal of accountability to Congress, clients, advocacy groups, and the general public, information collected on the CTDR is critical for HRSA, state and local grantees, and individual providers to assess the status of existing HIV-related service delivery systems.

The estimated response burden for CARE Act grantees is estimated as:

Title under which grantee is funded | Number of grantees respondents | Responses per grantee | Hours to coordinate receipt of data reports from providers | Total hour burden
Title I only | 54 | 107 | 40 | 2,160
Title II only | 50 | 112 | 40 | 2,000
Title III only | 303 | 1 | 8 | 2,424
Title IV only | 63 | 1 | 16 | 1,008
Total | 470 |  |  | 7,592

The estimated response burden for service providers is estimated as:

Title under which provider is funded | Number of provider respondents | Responses per provider | Hours per response | Total hour burden
Title I only | 1,011 | 1 | 24 | 24,264
Title II only | 836 | 1 | 40 | 33,440
Title III only | 138 | 1 | 40 | 5,520
Title IV only | 34 | 1 | 40 | 1,360
Funded under multiple Titles | 491 | 1 | 48 | 23,568
Total | 2,019 |  |  | 88,152

| Number of respondents |  |  | Total hour burden
Total | 2,489 |  |  | 95,744

Send comments to Susan G. Queen, Ph.D, HRSA Reports Clearance Officer, Room 14-33, Parklawn Building, 5600 Fishers Lane, Rockville, MD 20857. Written comments should be received within 60 days of this notice.

Dated: December 22, 2000.
Jane M. Harrison,
Director, Division of Policy Review and Coordination.

[FR Doc. 00-33218 Filed 12-28-00; 8:45 am]

BILLING CODE 4160-15-P